DEPARTMENT OF TRANSPORTATION

Federal Aviation Administration

14 CFR Part 39

[Docket No. FAA-2020-0026; Product Identifier 2018-SW-052-AD; Amendment 39-21127; AD 2020-11-02]

RIN 2120-AA64

Airworthiness Directives; Airbus Helicopters

AGENCY: Federal Aviation Administration (FAA), DOT.

ACTION: Final rule.

SUMMARY: The FAA is adopting a new airworthiness directive (AD) for Airbus Helicopters Model AS332C, AS332C1, AS332L, AS332L1, AS332L2, and EC225LP helicopters. This AD requires revising the Rotorcraft Flight Manual (RFM) for your helicopter and either installing placards or removing the hoist arm. This AD was prompted by a failure of a right-hand (RH) side lateral sliding plug door (sliding door) to jettison. The actions of this AD are intended to address an unsafe condition on these products.

DATES: This AD is effective June 25, 2020.

The Director of the Federal Register approved the incorporation by reference of certain documents listed in this AD as of June 25, 2020.

ADDRESSES: For service information identified in this final rule, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177. It is also available on the internet at https://www.regulations.gov by searching for and locating Docket No. FAA-2020-0026.

Examining the AD Docket

You may examine the AD docket on the internet at https://www.regulations.gov by searching for and locating Docket No. FAA-2020-0026; or in person at Docket Operations between 9 a.m. and 5 p.m., Monday through Friday, except Federal holidays. The AD docket contains this AD, the European Aviation Safety Agency (now European Union Aviation Safety Agency) (EASA) AD, any service information that is incorporated by reference, any comments received, and other information. The street address for Docket Operations is U.S. Department of Transportation, Docket Operations, M-30, West Building Ground Floor, Room W12-140, 1200 New Jersey Avenue SE, Washington, DC 20590.

FOR FURTHER INFORMATION CONTACT: Kristin Bradley, Aviation Safety Engineer, Safety Management Section, Rotorcraft Standards Branch, FAA, 10101 Hillwood Pkwy., Fort Worth, TX 76177; telephone 817-222-5110; email kristin.bradley@faa.gov.

SUPPLEMENTARY INFORMATION:

Discussion

On February 12, 2020, at 85 FR 7894, the Federal Register published the FAA's notice of proposed rulemaking (NPRM), which proposed to amend 14 CFR part 39 by adding an AD that would apply to Airbus Helicopters Model AS332C, AS332C1, AS332L, AS332L1, AS332L2, and EC225LP helicopters with a hoist arm and with RH sliding door reinforced bracket modification (MOD) 0726841 installed. The NPRM proposed to require revising the RFM for your helicopter by adding emergency and normal procedures and installing placards to require using the normal door handle instead of the jettison handle for the RH side sliding door. Alternatively, the NPRM proposed to allow removing the hoist arm instead of installing the placards. The proposed requirements were intended to prevent interference between the hoist arm and the reinforced bracket, which results in failure of the sliding door to jettison, and could prevent helicopter occupants from evacuating the helicopter during an emergency.

The NPRM was prompted by EASA AD No. 2018-0140-E, dated June 29, 2018 (EASA AD 2018-0140-E), issued by EASA, which is the Technical Agent for the Member States of the European Union, to correct an unsafe condition for Airbus Helicopters (formerly Eurocopter, Eurocopter France, Aerospatiale) Model AS 332 C, AS 332 C1, AS 332 L, AS 332 L1, AS 332 L2, and EC 225 LP helicopters. EASA advises that during a jettison test of the RH side sliding door, the sliding door became blocked between the hoist, airframe, and access step. Interference was identified between the hoist arm and the sliding door median fitting (reinforced bracket). EASA identifies the reinforced bracket as Airbus Helicopter MOD 0726841, which was required by EASA AD No. 2015-0167, dated August 12, 2015. EASA states that this condition could prevent jettisoning of the RH sliding door in an emergency, subsequently obstructing evacuation, and possibly resulting in injury to occupants. To correct this unsafe condition, EASA AD 2018-0140-E requires removing the hoist arm, or alternatively revising the applicable RFM and installing placards to specify using the normal door handle instead of the jettison handle for the RH side sliding door.

EASA states that Airbus Helicopters is developing a modification to eliminate the interference between the hoist arm and the reinforced bracket. As a result, EASA considers its AD an interim action and states that further AD action may follow.

Comments

After the NPRM was published, the FAA received comments from one commenter. However, the comments addressed neither the proposed actions nor the determination of the cost to the public. Therefore, the FAA has made no changes based on the comments.

FAA's Determination

These helicopters have been approved by EASA and are approved for operation in the United States. Pursuant to the FAA's bilateral agreement with the European Union, EASA has notified the FAA of the unsafe condition described in its AD. The FAA is issuing this AD after evaluating all information provided by EASA, reviewing the relevant information, considering the comments received, and determining the unsafe condition exists and is likely to exist or develop on other helicopters of these same type designs and that air safety and the public interest require adopting the AD requirements as proposed.

Interim Action

The FAA considers this AD to be an interim action. The design approval holder is currently developing a modification that will address the unsafe condition identified in this AD. Once this modification is developed, approved, and available, the FAA might consider additional rulemaking.

Differences Between This AD and the EASA AD

The EASA AD requires either removing the hoist arm or prohibiting use of the RH sliding door jettison handle by revising the RFM and installing placards. This AD requires revising the applicable RFM for your helicopter regardless of whether the hoist arm is removed.

Related Service Information Under 1 CFR Part 51

Airbus Helicopters has co-published as one document Emergency Alert Service Bulletin (EASB) No. 01.00.89, Revision 1, dated June 28, 2018 (EASB 01.00.89), for Model AS332-series helicopters; EASB No. 04A014, Revision 1, dated June 28, 2018 (EASB 04A014), for Model EC225 helicopters; and EASB No. 01.00.52, Revision 1, dated June 28, 2018, for non-FAA type certificated Model AS532 helicopters (EASB 01.00.52). EASBs 01.00.89 and 04A014 are incorporated by reference in this AD. EASB 01.00.52 is not incorporated by reference in this AD.

This service information provides pages to add to the emergency and normal procedures sections of the RFM, and specifies either removing the hoist arm or installing placards that require using the normal door handle instead of the jettison handle for the RH side sliding door. This service information further allows installing the placards during each installation of the hoist arm and removing the placards with each removal of the hoist arm.

This service information is reasonably available because the interested parties have access to it through their normal course of business or by the means identified in the ADDRESSES section.

Other Related Service Information

Airbus Helicopters has issued Service Bulletin (SB) No. AS332-52.00.43 for Model AS332C, AS332C1, AS332L, AS332L1, and AS332L2 helicopters and SB No. EC225-52-008 for Model EC225LP helicopters, both Revision 0 and dated June 23, 2015. This service information contains procedures for installing the reinforced bracket identified as MOD 0726841.

Costs of Compliance

The FAA estimates that this AD affects 36 helicopters of U.S. Registry. Labor costs are estimated at $85 per work-hour. Based on these numbers, the FAA estimates that operators may incur the following costs in order to comply with this AD.

Revising the RFM for your helicopter takes about 1 work-hour for an estimated cost of $85 per helicopter or $3,060 for the U.S. fleet.

Installing the placards takes about 1 work-hour for an estimated cost of $85 per helicopter or $3,060 for the U.S. fleet. Alternatively, removing the hoist arm takes about 1 work-hour for an estimated cost of $85 per helicopter.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-11-02 Airbus Helicopters: Amendment 39-21127; Docket No. FAA-2020-0026; Product Identifier 2018-SW-052-AD.

(a) Applicability

This AD applies to Airbus Helicopters Model AS332C, AS332C1, AS332L, AS332L1, AS332L2, and EC225LP helicopters, certificated in any category, with a hoist arm and with right-hand (RH) side lateral sliding plug door (sliding door) reinforced bracket modification (MOD) 0726841 installed.

Note 1 to paragraph (a) of this AD: Airbus Helicopters reinforced bracket MOD 0726841 may also be identified as sliding door median fitting reinforcement MOD 07.26841.

(b) Unsafe Condition

This AD defines the unsafe condition as interference between the hoist arm and the reinforced bracket resulting in failure of the sliding door to jettison. This condition could prevent helicopter occupants from evacuating the helicopter during an emergency.

(c) Effective Date

This AD becomes effective June 25, 2020.

(d) Compliance

You are responsible for performing each action required by this AD within the specified compliance time unless it has already been accomplished prior to that time.

(e) Required Actions

(1) Within 10 hours time-in-service:

(i) Revise the Rotorcraft Flight Manual for your helicopter by inserting the Emergency Procedures page and the Normal Procedures page applicable to your helicopter model and configuration from Appendix 4.C. Flight Manual of Airbus Helicopters Emergency Alert Service Bulletin (EASB) No. 01.00.89, Revision 1, dated June 28, 2018 (EASB 01.00.89), or Airbus Helicopters EASB No. 04A014, Revision 1, dated June 28, 2018 (EASB 04A014). Inserting a different document with information identical to that in Appendix 4.C. Flight Manual of EASB 01.00.89 or EASB 04A014 is acceptable for compliance with the requirements of this paragraph.

(ii) Cover existing placards for each RH sliding door in accordance with Appendix 4.B. Masking Tapes and Labels (RH lateral sliding door) of EASB 01.00.89 or EASB 04A014.

(iii) Install new placards in accordance with Appendix 4.A. Labels and Appendix 4.B. Masking Tapes and Labels (RH lateral sliding door) of EASB 01.00.89 or EASB 04A014.

(2) After complying with paragraph (e)(1) of this AD, each time the hoist arm is removed from the helicopter, you may remove the markings and placards that are required by paragraphs (e)(1)(ii) and (iii) of this AD. Before the hoist arm is re-installed, you must re-install the markings and placards that are required by paragraphs (e)(1)(ii) and (iii) of this AD.

(f) Alternative Methods of Compliance (AMOCs)

(1) The Manager, Safety Management Section, Rotorcraft Standards Branch, FAA, may approve AMOCs for this AD. Send your proposal to: Kristin Bradley, Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(g) Additional Information

(1) Airbus Helicopters Service Bulletin (SB) No. AS332-52.00.43 and SB No. EC225-52-008, both Revision 0 and dated June 23, 2015, which are not incorporated by reference, contain additional information about the subject of this AD. For service information identified in this AD, contact Airbus Helicopters, 2701 N Forum Drive, Grand Prairie, TX 75052; telephone 972-641-0000 or 800-232-0323; fax 972-641-3775; or at https://www.airbus.com/helicopters/services/technical-support.html. You may view a copy of the service information at the FAA, Office of the Regional Counsel, Southwest Region, 10101 Hillwood Pkwy., Room 6N-321, Fort Worth, TX 76177.

(2) The subject of this AD is addressed in European Aviation Safety Agency (now European Union Aviation Safety Agency) (EASA) No. 2018-0140-E, dated June 29, 2018. You may view the EASA AD on the internet at https://www.regulations.gov in Docket No. FAA-2020-0026.

(h) Subject

Joint Aircraft Service Component (JASC) Code: 5200, Doors.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Emergency Alert Service Bulletin (EASB) No. 01.00.89, Revision 1, dated June 28, 2018.

(ii) Airbus Helicopters EASB No. 04A014, Revision 1, dated June 28, 2018.

Note 2 to paragraph (i)(2): Airbus Helicopters EASB Nos. 01.00.89 and 04A014, both Revision 1 and dated June 28, 2018, are co-published as one document along with Airbus Helicopters EASB No. 01.00.52, Revision 1, dated June 28, 2018, which is not incorporated by reference in this AD.

(3) For Airbus Helicopters service information identified in this AD, contact Airbus Helicopters, 2701 N. Forum Drive, Grand Prairie, TX 75052; telephone 972-641-0000 or 800-232-0323; fax 972-641-3775; or at https://www.airbus.com/helicopters/services/technical-support.html.

(4) You may view this service information at the FAA, Office of the Regional Counsel, Southwest Region, 10101 Hillwood Pkwy, Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on May 15, 2020.
Lance T. Gant,
Director, Compliance & Airworthiness Division, Aircraft Certification Service.

[FR Doc. 2020-10936 Filed 5-20-20; 8:45 am]

BILLING CODE 4910-13-P